ENVIRONMENTAL PROTECTION AGENCY

40 CFR Part 52

[EPA-R05-OAR-2006-0003; FRL-8578-5]

Approval and Promulgation of Air Quality Implementation Plans; Illinois

AGENCY: Environmental Protection Agency (EPA).

ACTION: Final rule.

SUMMARY: EPA is approving a revision to the Illinois Ozone State Implementation Plan (SIP). On August 17, 2005, Illinois requested that five compounds be added to its list of compounds that are exempt from being considered as volatile organic compounds (VOCs). EPA no longer considers four of the compounds to be VOCs for control and recordkeeping/reporting purposes because the compounds were shown to be negligibly photochemically reactive, and do not lead to ozone formation. EPA, however, determined that tertiary-butyl acetate (t-butyl acetate) has negligible contribution to ozone formation, and, therefore, is not considered a VOC for emission limits and VOC control requirements, it should, noneless, continue to be covered by recordkeeping, emission reporting, and inventory requirements. Illinois provided a supplementary submission on January 29, 2008, correcting the August 17, 2007, submittal by clarifying the restrictions pertaining to the compound t-butyl acetate.

DATES: This final rule is effective on August 15, 2008.

ADDRESSES: EPA has established a docket for this action under Docket ID No. EPA-R05-OAR-2006-0003. All documents in the docket are listed on the www.regulations.gov Web site. Although listed in the index, some information is not publicly available, i.e., Confidential Business Information (CBI) or other information whose disclosure is restricted by statute. Certain other material, such as copyrighted material, is not placed on the Internet and will be publicly available only in hard copy form. Publicly available docket materials are available either electronically through www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Matt Rau, Environmental Engineer, at (312) 886-6524 before visiting the Region 5 office.

FOR FURTHER INFORMATION CONTACT: Matt Rau, Environmental Engineer, Criteria Pollutant Section, Air Programs Branch (AR-18J), Environmental Protection Agency, Region 5, 77 West Jackson Boulevard, Chicago, Illinois 60604, (312) 886-6524, rau.matthew@epa.gov.

SUPPLEMENTARY INFORMATION: Throughout this document whenever “we”, “us,” or “our” is used, we mean EPA. This supplementary information section is arranged as follows:

I. What Revisions Did the State Request?

II. What Is EPA's Analysis of the Revisions?

III. What Are the Environmental Effects of This Action?

IV. What Action Is EPA Taking Today?

V. Statutory and Executive Order Reviews

I. What Revisions Did the State Request?

Illinois requested revisions to its ozone SIP which would add five compounds to the list of compounds exempt from VOC requirements because they are negligibly photochemicially reactive. Illinois uses the term “volatile organic matter” or “VOM” in place of VOC. The State requested the compounds 1,1,1,2,2,3,3-Heptafluoro-3-methoxypropane (“n-C3F7OCH3”), 3-Ethoxy 1,1,1,2,3,4,4,5,5,6,6,6-dodecafluoro-2-(trifluoromethyl)hexane (“HFE-7500”), 1,1,1,2,3,3,3-Heptafluoropropane (“HFC-227ea”), Methyl formate, and tertiary-Butyl acetate (“t-butyl acetate”) be added to Title 35 of the Illinois Administrative Code (IAC) Section 211.7150(a), its list of compounds exempt from VOC requirements. Illinois also requested the addition of t-butyl acetate to the 35 IAC 211.7150(a) exemption list, with a separate provision that special requirements, 35 IAC 211.7150(e), apply to t-butyl acetate. T-butyl acetate is to be considered a VOC for recordkeeping, emissions reporting, modeling, and inventory requirements, but is not to be considered VOC for emission limits or content requirements.

II. What Is EPA's Analysis of the Revisions?

On November 29, 2004, EPA added four compounds, n-C3F7OCH3, HFE-7500, HFC-227ea, and methyl formate, to its list of compounds exempt from VOC requirements, (69 FR 69290). On the same day, EPA also exempted t-butyl acetate from emission limitations and VOC content requirements, but continued in effect for that compound recordkeeping, emissions reporting, and inventory requirements, (69 FR 69298).

In its August 17, 2005, submission, Illinois requested that n-C3F7OCH3, HFE-7500, HFC-227ea, methyl formate, and t-butyl acetate be listed as compounds that are exempt from VOC requirements. The State's addition of the first four of these compounds to its list of exempt compounds can be approved, as EPA added them to its list of compounds exempt from VOC regulation on November 29, 2004. As to the fifth compound, t-butyl acetate, Illinois has limited the extent of its exemption from regulation (consistent with EPA's November 29, 2004 action), in its supplementary submission of January 29, 2008. In 35 IAC 211.7150(a), Illinois adds t-butyl acetate to the list of compounds exempt from VOC regulation. However, Illinois also specifically provides that t-butyl acetate will continue to be governed by recordkeeping, emissions reporting, and inventory requirements. Consequently, Illinois's rule revisions provide adequate notice to t-butyl acetate users that, while the compound is exempt from emission limitations and content requirements, it continues to be regulated by recordkeeping, emissions reporting and inventory requirements.

III. What Are the Environmental Effects of This Action?

Volatile organic compounds are precursors to ozone formation. Complex photochemical reactions involving VOCs form tropospheric ozone.

Ozone decreases lung function, causing chest pain and coughing. It can aggravate asthma, reduce lung capacity, and increase risk of respiratory diseases like pneumonia and bronchitis. Children playing outside and healthy adults who work or exercise outside may also be harmed by elevated ozone levels. Ozone also reduces vegetation growth in economically important agricultural crops and wild plants.

EPA has determined that the five compounds make a negligible contribution to ozone formation. Thus, the compounds are no longer considered to be VOCs for emission control purposes, and the exemptions will not harm air quality.¹ In fact, if sources switch from the use of a VOC compound to one of the compounds that are no longer considered VOCs, ozone formation may be reduced.

¹ Recordkeeping and reporting requirements for t-butyl acetate and other future exempt compounds are retained because even “negligibly reactive” compounds may contribute significantly to ozone formation if present in sufficient quantities. Also, accurate emission figures are needed for modeling analyses. The recordkeeping and reporting for t-butyl acetate are further justified when considering its reactivity is on the borderline of what has been considered negligibly reactive.

IV. What Action Is EPA Taking Today?

EPA is approving VOC revisions to the Illinois SIP. Specifically, EPA is approving revisions to 35 IAC 211.7150(a) and (e). Illinois has added language to section 211.7150(a) that states that some compounds listed in that section must also follow the restrictions in section 211.7150(e). All five compounds are listed in section 211.7150(a), but the notation makes it clear that t-butyl acetate users must follow the special recordkeeping, emissions reporting, modeling, and inventory requirement restrictions from section 211.7150(e).

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by September 15, 2008. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Dated: May 27, 2008.
Bharat Mathur,
Acting Regional Administrator, Region 5.

For the reasons stated in the preamble, part 52, chapter I, of title 40 of the Code of Federal Regulations is amended as follows:

PART 52—[AMENDED]

1. The authority citation for part 52 continues to read as follows:

Authority: 42 U.S.C. 7401 et seq.

Subpart O—Illinois

2. Section 52.720 is amended by adding paragraph (c)(181) to read as follows:

§ 52.720 Identification of plan.

* * * * *

(c) * * *

(181) On August 17, 2005 and January 29, 2008, Illinois submitted revised regulations that are consistent with 40 CFR 51.100(s)(1), as amended by 69 FR 69298. The compounds 1,1,1,2,2,3,3-heptafluoro-3-methoxypropane (n-C3F7OCH3), 3-ethoxy 1,1,1,2,3,4,4,5,5,6,6,6-dodecafluoro-2-(trifluoromethyl)hexane (HFE-7500), 1,1,1,2,3,3,3-heptafluoropropane (HFC-227ea), and methyl formate were added to the list of negligibly reactive compounds excluded from the definition of VOM in 35 IAC 211.7150(a). Tertiary-butyl acetate is also listed in 35 IAC 211.7150(a) with a notation that it must also meet the requirements of 35 IAC 211.7150(e), which state that tertiary-butyl acetate is considered a VOC for recordkeeping, emissions reporting, modeling, and inventory requirements, but is not considered a VOC for emission limits or content requirements.

(i) Incorporation by reference.

(A) Illinois Administrative Code Title 35: Environmental Protection, Part 211: Definitions and General Provisions, Subpart B: Definitions, Section 211.7150: Volatile Organic Matter (VOM) or Volatile Organic Compound (VOC), Subsections 211.7150(a) and 211.7150(e). Effective January 16, 2008.

[FR Doc. E8-15815 Filed 7-15-08; 8:45 am]

BILLING CODE 6560-50-P